DEPARTMENT OF AGRICULTURE

Food and Nutrition Service

7 CFR Parts 210 and 245

RIN 0584-AE17

National School Lunch Program: Independent Review of Applications Required by the Healthy, Hunger-Free Kids Act of 2010; Approval of Information Collection Request

AGENCY: Food and Nutrition Service, USDA.

ACTION: Final rule; Notice of approval of Information Collection Request (ICR).

SUMMARY: In accordance with the Paperwork Reduction Act of 1995 (PRA), the Food and Nutrition Service (FNS) is announcing the Office of Management and Budget's (OMB) approval of information collection requirements contained in a final rule published in the Federal Register.

DATES: The ICR associated with the National School Lunch Program: Independent Review of Applications Required by the Healthy, Hunger-Free Kids Act of 2010 rule published in the Federal Register on February 6, 2014 (79 FR 7049), and effective March 10, 2014, was approved by OMB on March 12, 2014.

FOR FURTHER INFORMATION CONTACT: Lynn Rodgers-Kuperman, Chief, Program Monitoring Branch, Child Nutrition Programs, Food and Nutrition Service at (703) 305-2590.

SUPPLEMENTARY INFORMATION: The rule titled National School Lunch Program: Independent Review of Applications Required by the Healthy, Hunger-Free Kids Act of 2010 was published on February 6, 2014. OMB cleared the associated ICR on March 12, 2014 under 0584-0573. The ICR approved under 0584-0573 has been transferred to 0584-0026.

This document announces approval of the ICR.

Dated: June 19, 2014.
Audrey Rowe,
Administrator, Food and Nutrition Service.

[FR Doc. 2014-15092 Filed 6-26-14; 8:45 am]

BILLING CODE 3410-30-P